FEDERAL COMMUNICATIONS COMMISSION

47 CFR Part 73

[DA No. 00-1000; MM Docket No. 99-337; RM-9524]

Radio Broadcasting Services; Santa Anna, TX

AGENCY: Federal Communications Commission.

ACTION: Final rule.

SUMMARY: This document allots Channel 288C3 at Santa Anna, Texas, in response to a petition filed by Wagonwheel Broadcasting of Santa Anna. See 64 FR 68663, December 8, 1999. The coordinates for Channel 288C3 at Santa Anna are 31-37-38 NL and 99-20-03 WL. There is a site restriction 12.7 kilometers (7.9 miles) south of the community. Mexican concurrence has been received for Channel 288C3 at Santa Anna. With this action, this docketed proceeding is terminated. A filing window for Channel 288C3 at Santa Anna will not be opened at this time. Instead, the issue of opening a filing window for this channel will be addressed by the Commission in a subsequent order.

DATES: Effective June 26, 2000.

FOR FURTHER INFORMATION CONTACT: Kathleen Scheuerle, Mass Media Bureau, (202) 418-2180.

SUPPLEMENTARY INFORMATION: This is a summary of the Commission's Report and Order, MM Docket No. 99-337, adopted April 26, 2000, and released May 12, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Texas, is amended by adding Santa Anna, Channel 288C3.

Federal Communications Commission.
John A. Karousos,
Chief, Allocations Branch, Policy and Rules Division, Mass Media Bureau.

[FR Doc. 00-13703 Filed 5-31-00; 8:45 am]

BILLING CODE 6712-01-U